DEPARTMENT OF HEALTH AND HUMAN SERVICES

Request for Information: Viral Hepatitis National Strategic Plan 2021-2025 Available for Public Comment

AGENCY: Office of the Secretary, Department of Health and Human Services.

ACTION: Notice.

SUMMARY: The Department of Health and Human Services (HHS) Office of Infectious Disease and HIV/AIDS Policy (OIDP) in the Office of the Assistant Secretary for Health (OASH) announces the draft Viral Hepatitis National Strategic Plan: A Roadmap to Elimination (2021-2025) (Hepatitis Plan) available for public comment. The draft Hepatitis Plan may be reviewed at www.hhs.gov/hepatitis.

DATES: All comments must be received by 5:00 p.m. ET on October 8, 2020 to ensure consideration.

ADDRESSES: All comments must be submitted electronically to HepatitisPlanComments@hhs.gov.

FOR FURTHER INFORMATION CONTACT: Carol Jimenez, OIDP, Carol.Jimenez@hhs.gov. 202-401-5131.

SUPPLEMENTARY INFORMATION: Viral hepatitis is a significant public health threat that puts people who are infected at increased risk for serious disease and death. In the United States, new hepatitis A and hepatitis C infections have increased dramatically in recent years, little progress has been made on preventing hepatitis B infections, and, as of 2016, an estimated 3.3 million people were chronically infected with hepatitis B and hepatitis C.¹⁻³ Collectively, viral hepatitis costs people, health systems, states, and the federal government billions of dollars each year 4 5 and contributes to substantial health disparities, stigma, and discrimination. Reversing the rates of viral hepatitis, preventing new infections, and improving care and treatment require a strategic and coordinated approach by federal partners in collaboration with state and local health departments, tribal communities, community-based organizations, and other nonfederal partners and stakeholders.

To spur action to reduce new viral hepatitis infections and their adverse public health impact, OASH through OIDP, in collaboration with federal partners throughout HHS and other departments, led and coordinated development of the Hepatitis Plan. Opportunities for public input were provided, and public comments received were reviewed and analyzed and helped inform the components of the Hepatitis Plan.

The Hepatitis Plan focuses on hepatitis A, hepatitis B, and hepatitis C—the hepatitis viruses that most significantly affect the health of the nation. It is an elimination plan, with the overarching goal of eliminating viral hepatitis as a public health threat in the United States by 2030. The Hepatitis Plan is intended to serve as a roadmap for all stakeholders at all levels to eliminate hepatitis in this nation. The Hepatitis Plan presents a strategic framework for integrating and leveraging synergistic policies, programs, and resources. It sets forth a vision and five goals for the nation, with objectives and strategies for each goal. The objectives and strategies offered in this plan are interrelated and may be used to make progress toward more than one goal. The Hepatitis Plan identifies disproportionately impacted populations based on national hepatitis incidence, prevalence, and mortality data, to help federal and other stakeholders focus their efforts to realize the greatest impact. The Hepatitis Plan also includes indicators to measure progress and quantitative targets for each indicator. Although it is a 5-year plan, it sets 10-year quantitative targets for each indicator—reflecting the reality that it will take more than 5 years to eliminate viral hepatitis as a public health threat. The order in which the goals, objectives, strategies, and indicators are presented is not associated with any prioritization. The following are the Hepatitis Plan's vision and goals. Vision: The United States will be a place where new viral hepatitis infections are prevented, every person knows their status, and every person with viral hepatitis has high-quality health care and treatment and lives free from stigma and discrimination. This vision includes all people, regardless of age, sex, gender identity, sexual orientation, race, ethnicity, geographic location, or socioeconomic circumstance. Goals:

1. Prevent New Viral Hepatitis Infections

2. Improve Viral Hepatitis—Related Health Outcomes of People with Viral Hepatitis

3. Reduce Viral Hepatitis—Related Disparities and Health Inequities

4. Improve Viral Hepatitis Surveillance and Data Usage

5. Achieve Integrated, Coordinated Efforts That Address the Viral Hepatitis Epidemics among All Partners and Stakeholders

A roadmap for stakeholders at all levels and sectors, the Hepatitis Plan envisions a whole-of-nation response to preventing and controlling viral hepatitis in the United States. The Hepatitis Plan assumes the active participation of state, local, and tribal health departments and organizations, health plans and health care providers, schools and other academic institutions, community- and faith-based organizations, scientists, researchers, and the public in this effort. The priority populations, indicators, and quantitative targets, especially the methods used to determine them, are intended to help focus efforts and limited resources to realize the most impact. Stakeholders are encouraged to focus on activities that resonate the most with the needs of the populations they serve and services they provide, and, using the Hepatitis Plan as a framework, develop their own plans to eliminate viral hepatitis and improve the health of their communities, states, tribal nations, and the nation.

Information Needs

The draft Hepatitis Plan may be reviewed at: www.hhs.gov/hepatitis.

OIDP seeks to obtain feedback from external stakeholders on the following:

1. Do the draft plan's goals, objectives, and strategies appropriately address the viral hepatitis epidemics?

2. Are there any critical gaps in the Hepatitis Plan's goals, objectives, and strategies? If so, please specify the gaps.

3. Do any of the Hepatitis Plan's goals, objectives and strategies cause concern? If so, please specify the goal, objective or strategy, and describe the concern regarding it.

Each commenter is limited to a maximum of seven pages.

Authority: 77 FR 15761 (March 16, 2012).

Dated: September 22, 2020.
B. Kaye Hayes,
Acting Director, Office of Infectious Disease and HIV/AIDS Policy.

Footnotes

1. Centers for Disease Control and Prevention. Viral Hepatitis Surveillance—United States, 2018. U.S. Department of Health and Human Services; 2020. Accessed August 9, 2020. https://www.cdc.gov/hepatitis/statistics/2018surveillance/index.htm.

2. Hofmeister MG, Rosenthal EM, Barker LK, et al. Estimating prevalence of hepatitis C virus infection in the United States, 2013-2016. Hepatology. 2019 Mar;69(3):1020-1031. doi: 10.1002/hep.30297.

3. LeFevre ML. Screening for hepatitis B virus infection in nonpregnant adolescents and adults: US Preventive Services Task Force recommendation statement. Annals Internal Med. 2014;161(1):58-66.

4. Morey RJ, Collier MG, Nelson NP. The financial burden of public health responses to hepatitis A cases among food handlers, 2012-2014. Public Health Rep. 2017;132(4):443-447. doi:10.1177/0033354917710947.

5. Wittenborn J, Brady J, Dougherty M, Rein D. Potential epidemiologic, economic, and budgetary impacts of current rates of hepatitis C treatment in Medicare and non-Medicare populations. Hepatol Commun. 2017;1(2):99-109. doi:10.1002/hep4.1031.

[FR Doc. 2020-21288 Filed 9-25-20; 8:45 am]

BILLING CODE 4150-43-P